INTERNATIONAL TRADE COMMISSION

[Investigation Nos. 701-TA-615-617 and 731-TA-1432-1434 (Preliminary)]

Fabricated Structural Steel from Canada, China, and Mexico

Determinations

On the basis of the record ¹ developed in the subject investigations, the United States International Trade Commission (“Commission”) determines, pursuant to the Tariff Act of 1930 (“the Act”), that there is a reasonable indication that an industry in the United States is materially injured by reason of imports of fabricated structural steel from Canada, China, and Mexico, provided for in subheadings 7308.90.30, 7308.90.60, and 7308.90.95 of the Harmonized Tariff Schedule of the United States, that are alleged to be sold in the United States at less than fair value (“LTFV”) and to be subsidized by the governments of Canada, China, and Mexico.²

¹ The record is defined in sec. 207.2(f) of the Commission's Rules of Practice and Procedure (19 CFR 207.2(f)).

² 84 FR 7330 (March 4, 2019) and 84 FR 7339 (March 4, 2019).

Commencement of Final Phase Investigations

Pursuant to section 207.18 of the Commission's rules, the Commission also gives notice of the commencement of the final phase of its investigations. The Commission will issue a final phase notice of scheduling, which will be published in the Federal Register as provided in section 207.21 of the Commission's rules, upon notice from the U.S. Department of Commerce (“Commerce”) of affirmative preliminary determinations in the investigations under sections 703(b) or 733(b) of the Act, or, if the preliminary determinations are negative, upon notice of affirmative final determinations in those investigations under sections 705(a) or 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On February 4, 2019, the American Institute of Steel Construction (“AISC”), LLC, Chicago, IL (amended on February 21, 2019 to the Full Member Subgroup of the AISC), filed petitions with the Commission and Commerce, alleging that an industry in the United States is materially injured or threatened with material injury by reason of subsidized imports of fabricated structural steel from Canada, China, and Mexico and LTFV imports of fabricated structural steel from Canada, China, and Mexico. Accordingly, effective February 4, 2019, the Commission, pursuant to sections 703(a) and 733(a) of the Act (19 U.S.C. 1671b(a) and 1673b(a)), instituted countervailing duty investigation Nos. 701-TA-615-617 and antidumping duty investigation Nos. 731-TA-1432-1434 (Preliminary).

Notice of the institution of the Commission's investigations and of a public conference to be held in connection therewith was given by posting copies of the notice in the Office of the Secretary, U.S. International Trade Commission, Washington, DC, and by publishing the notice in the Federal Register of February 11, 2019 (84 FR 3245). The conference was held in Washington, DC, on February 25, 2019, and all persons who requested the opportunity were permitted to appear in person or by counsel.

The Commission made these determinations pursuant to sections 703(a) and 733(a) of the Act (19 U.S.C. 1671b(a) and 1673b(a)). It completed and filed its determinations in these investigations on March 22, 2019.³ The views of the Commission are contained in USITC Publication 4878 (March 2019), entitled Fabricated Structural Steel from Canada, China, and Mexico: Investigation Nos. 701-TA-615-617 and 731-TA-1432-1434 (Preliminary).

³ Because the federal government in Washington, DC was closed on February 20, 2019, as a result of inclement weather, all statutory deadlines have been tolled by one day.

By order of the Commission.
Issued: March 22, 2019.
Katherine Hiner,
Acting Secretary to the Commission.

[FR Doc. 2019-05884 Filed 3-26-19; 8:45 am]

BILLING CODE 7020-02-P